DEPARTMENT OF ENERGY

Notice of Intent To Prepare an Environmental Impact Statement for the Proposed Consolidation of Nuclear Operations Related to Production of Radioisotope Power Systems; Correction

AGENCY: Department of Energy.

ACTION: Notice of Intent; correction.

SUMMARY: The Department of Energy published a notice of intent in the Federal Register on November 16, 2004, (69 FR 67139) announcing its intent to prepare an environmental impact statement (EIS), for the proposed consolidation of nuclear activities related to production of radioisotope power systems required for Government national security and space exploration missions at a single, highly secure DOE site. The document contained an incorrect telephone number and an incorrect street address for a public meeting.

Corrections

In the Federal Register of November 16, 2004, in FR Doc. 04-25406, on page 67140, the following corrections should be made:

First column, first paragraph,

Twin Falls, ID: 1586 Blue Lakes Blvd. North,

Second column, under ADDRESSES heading, first paragraph,

You may leave a message at (800) 919-3706.

FOR FURTHER INFORMATION CONTACT: Timothy A. Frazier, Document Manager, NE-50/Germantown Building, Office of Space and Defense Power Systems, Office of Nuclear Energy, Science and Technology, U.S. Department of Energy, 1000 Independence Avenue, SW., Washington, DC 20585-1290, telephone 301-903-9420, or submitted via e-mail to ConsolidationEIS@nuclear.energy.gov.

Issued in Washington, DC on November 18, 2004.
Carol M. Borgstrom,
Director, Office of NEPA Policy and Compliance.

[FR Doc. 04-26035 Filed 11-23-04; 8:45 am]

BILLING CODE 6450-01-P